DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on August 13, 2025. See Supplementary Information section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On August 13, 2025, OFAC determined that one or more persons identified below meet one or more of the criteria for the imposition of sanctions set forth in section 1(a)-(c) of Executive Order 14059 of December 15, 2021, “Imposing Sanctions on Foreign Persons Involved in the Global Illicit Drug Trade,” 86 FR 71549 (E.O. 14059). OFAC has selected to impose blocking sanctions pursuant to section 2(a)(i) of E.O. 14059 on the persons identified below.

OFAC further determined that one or more persons identified below meet one or more of the criteria for designation pursuant to Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended).

As a result, the property and interests in property subject to U.S. jurisdiction of the following persons are blocked under the relevant sanctions authorities listed below.

Individuals

1. GUDINO HARO, Francisco Javier (Latin: GUDIÑO HARO, Francisco Javier) (a.k.a. “El Plumas”; a.k.a. “La Gallina”), Puerto Vallarta, Jalisco, Mexico; Guadalajara, Jalisco, Mexico; DOB 29 Feb 1988; POB Guadalajara, Jalisco, Mexico; nationality Mexico; Gender Male; Secondary sanctions risk: section 1(b) of Executive Order 13224, as amended by Executive Order 13886; C.U.R.P. GUHF880229HJCDRR07 (Mexico) (individual) [SDNTK] [SDGT] [ILLICIT-DRUGS-EO14059] (Linked To: CARTEL DE JALISCO NUEVA GENERACION).

Designated pursuant to section 1(b)(iii) of E.O. 14059 for being owned, controlled, or directed by, or having acted or purported to act for or on behalf of, directly or indirectly, Cartel de Jalisco Nueva Generacion (CJNG), a person sanctioned pursuant to E.O. 14059.

Designated pursuant to section 1(a)(iii)(A) of E.O. 13224, as amended, for being owned, controlled, or directed by, or having acted or purported to act for or on behalf of, directly or indirectly, CJNG, a person sanctioned pursuant to E.O. 13224, as amended.

2. IBARRA DIAZ JR., Michael, Puerto Vallarta, Jalisco, Mexico; DOB 01 Jan 1980; POB Puerto Vallarta, Jalisco, Mexico; nationality Mexico; Gender Male; Secondary sanctions risk: section 1(b) of Executive Order 13224, as amended by Executive Order 13886; R.F.C. IADM8001016LA (Mexico); C.U.R.P. IADM800101HJCBZC00 (Mexico) (individual) [SDGT] [ILLICIT-DRUGS-EO14059] (Linked To: CARTEL DE JALISCO NUEVA GENERACION).

Designated pursuant to section 1(b)(iii) of E.O. 14059 for being owned, controlled, or directed by, or having acted or purported to act for or on behalf of, directly or indirectly, CJNG, a person sanctioned pursuant to E.O. 14059.

Designated pursuant to section 1(a)(iii)(A) of E.O. 13224, as amended, for being owned, controlled, or directed by, or having acted or purported to act for or on behalf of, directly or indirectly, CJNG, a person sanctioned pursuant to E.O. 13224, as amended.

3. MONTERO PINZON, Julio Cesar (a.k.a. HERNANDEZ JIMENEZ, Cesar; a.k.a. VELAZQUEZ BALTAZAR, Luis Armando; a.k.a. “Comandante Tarjetas”; a.k.a. “El Chess”; a.k.a. “El Chino”; a.k.a. “El Tarjetas”; a.k.a. “HERNANDEZ JIMENEZ, Francisco”; a.k.a. “Moreno”), Puerto Vallarta, Jalisco, Mexico; Estero del Cayman, Real Ixtapa, #137-A, Puerto Vallarta, Jalisco, Mexico; DOB 02 Jun 1982; alt. DOB 08 Nov 1982; alt. DOB 25 Aug 1986; alt. DOB 28 Jun 1977; POB Puerto Vallarta, Jalisco, Mexico; alt. POB Amatan, Chiapas, Mexico; nationality Mexico; Gender Male; Secondary sanctions risk: section 1(b) of Executive Order 13224, as amended by Executive Order 13886; R.F.C. VEBL860825 (Mexico); C.U.R.P. MOPJ820602HJCNNL05 (Mexico); alt. C.U.R.P. MOPJ821108HJCNNL04 (Mexico); alt. C.U.R.P. VEBL860825HJCLLS05 (Mexico); alt. C.U.R.P. HEJC770628HCSRMS06 (Mexico); Electoral Registry No. GRMRLR82012730M700 (Mexico) (individual) [SDGT] [ILLICIT-DRUGS-EO14059] (Linked To: CARTEL DE JALISCO NUEVA GENERACION).

Designated pursuant to section 1(a)(iii)(A) of E.O. 13224, as amended, for being owned, controlled, or directed by, or having acted or purported to act for or on behalf of, directly or indirectly, CJNG, a person sanctioned pursuant to E.O. 13224, as amended.

4. RIVERA VARELA, Carlos Andres (a.k.a. “La Firma”), Puerto Vallarta, Jalisco, Mexico; DOB 19 Jun 1986; POB Cali, Valle, Colombia; nationality Colombia; alt. nationality Mexico; Gender Male; Secondary sanctions risk: section 1(b) of Executive Order 13224, as amended by Executive Order 13886; Cedula No. 1130648070 (Colombia); C.U.R.P. RIVC860619HNEVRR04 (Mexico) (individual) [SDNTK] [SDGT] [ILLICIT-DRUGS-EO14059] (Linked To: CARTEL DE JALISCO NUEVA GENERACION).

Designated pursuant to section 1(b)(iii) of E.O. 14059 for being owned, controlled, or directed by, or having acted or purported to act for or on behalf of, directly or indirectly, CJNG, a person sanctioned pursuant to E.O. 14059.

Designated pursuant to section 1(a)(iii)(A) of E.O. 13224, as amended, for being owned, controlled, or directed by, or having acted or purported to act for or on behalf of, directly or indirectly, CJNG, a person sanctioned pursuant to E.O. 13224, as amended.

Entities

1. AKALI REALTORS, Puerto Vallarta, Jalisco, Mexico; Secondary sanctions risk: section 1(b) of Executive Order 13224, as amended by Executive Order 13886; Organization Established Date 06 May 2022; Organization Type: Real estate activities on a fee or contract basis; Folio Mercantil No. N-2022045334 (Mexico) [SDGT] [ILLICIT-DRUGS-EO14059] (Linked To: IBARRA DIAZ JR., Michael).

Designated pursuant to section 1(b)(iii) of E.O. 14059 for being owned, controlled, or directed by, or having acted or purported to act for or on behalf of, directly or indirectly, Michael Ibarra Diaz Jr., a person sanctioned pursuant to E.O. 14059.

Designated pursuant to section 1(a)(iii)(A) of E.O. 13224, as amended, for being owned, controlled, or directed by, or having acted or purported to act for or on behalf of, directly or indirectly, Michael Ibarra Diaz Jr., a person sanctioned pursuant to E.O. 13224, as amended.

2. CENTRO MEDIADOR DE LA COSTA, S.A. DE C.V., Mezcales, Nayarit, Mexico; Secondary sanctions risk: section 1(b) of Executive Order 13224, as amended by Executive Order 13886; Organization Established Date 29 Oct 2004; Organization Type: Real estate activities on a fee or contract basis; Folio Mercantil No. 582 (Mexico) [SDGT] [ILLICIT-DRUGS-EO14059] (Linked To: IBARRA DIAZ JR., Michael).

Designated pursuant to section 1(b)(iii) of E.O. 14059 for being owned, controlled, or directed by, or having acted or purported to act for or on behalf of, directly or indirectly, Michael Ibarra Diaz Jr., a person sanctioned pursuant to E.O. 14059.

Designated pursuant to section 1(a)(iii)(A) of E.O. 13224, as amended, for being owned, controlled, or directed by, or having acted or purported to act for or on behalf of, directly or indirectly, Michael Ibarra Diaz Jr., a person sanctioned pursuant to E.O. 13224, as amended.

3. CONSULTORIAS PROFESIONALES ALMIDA, S.A. DE C.V., Puerto Vallarta, Jalisco, Mexico; Secondary sanctions risk: section 1(b) of Executive Order 13224, as amended by Executive Order 13886; Organization Established Date 24 Mar 2010; Organization Type: Accounting, bookkeeping and auditing activities; tax consultancy; Folio Mercantil No. 15471 (Mexico) [SDGT] [ILLICIT-DRUGS-EO14059] (Linked To: IBARRA DIAZ JR., Michael).

Designated pursuant to section 1(b)(iii) of E.O. 14059 for being owned, controlled, or directed by, or having acted or purported to act for or on behalf of, directly or indirectly, Michael Ibarra Diaz Jr., a person sanctioned pursuant to E.O. 14059.

Designated pursuant to section 1(a)(iii)(A) of E.O. 13224, as amended, for being owned, controlled, or directed by, or having acted or purported to act for or on behalf of, directly or indirectly, Michael Ibarra Diaz Jr., a person sanctioned pursuant to E.O. 13224, as amended.

4. CORPORATIVO COSTA NORTE, S.A. DE C.V., Puerto Vallarta, Jalisco, Mexico; Secondary sanctions risk: section 1(b) of Executive Order 13224, as amended by Executive Order 13886; Organization Established Date 21 Feb 2006; Organization Type: Real estate activities on a fee or contract basis; Folio Mercantil No. 13552 (Mexico) [SDGT] [ILLICIT-DRUGS-EO14059] (Linked To: IBARRA DIAZ JR., Michael).

Designated pursuant to section 1(b)(iii) of E.O. 14059 for being owned, controlled, or directed by, or having acted or purported to act for or on behalf of, directly or indirectly, Michael Ibarra Diaz Jr., a person sanctioned pursuant to E.O. 14059.

Designated pursuant to section 1(a)(iii)(A) of E.O. 13224, as amended, for being owned, controlled, or directed by, or having acted or purported to act for or on behalf of, directly or indirectly, Michael Ibarra Diaz Jr., a person sanctioned pursuant to E.O. 13224, as amended.

5. CORPORATIVO INTEGRAL DE LA COSTA, S.A. DE C.V., Puerto Vallarta, Jalisco, Mexico; Secondary sanctions risk: section 1(b) of Executive Order 13224, as amended by Executive Order 13886; Organization Established Date 21 Feb 2006; Organization Type: Real estate activities on a fee or contract basis; Folio Mercantil No. 13557 (Mexico) [SDGT] [ILLICIT-DRUGS-EO14059] (Linked To: IBARRA DIAZ JR., Michael).

Designated pursuant to section 1(b)(iii) of E.O. 14059 for being owned, controlled, or directed by, or having acted or purported to act for or on behalf of, directly or indirectly, Michael Ibarra Diaz Jr., a person sanctioned pursuant to E.O. 14059.

Designated pursuant to section 1(a)(iii)(A) of E.O. 13224, as amended, for being owned, controlled, or directed by, or having acted or purported to act for or on behalf of, directly or indirectly, Michael Ibarra Diaz Jr., a person sanctioned pursuant to E.O. 13224, as amended.

6. FISHING ARE US, S. DE R.L. DE C.V. (a.k.a. AKALI BEACH CLUB; a.k.a. AKALI EXPEDITIONS; a.k.a. XOLO MAIZ AGAVE CHILE), Puerto Vallarta, Jalisco, Mexico; website https://fishingareus.com/; alt. Website www.akaliexpeditions.com; Secondary sanctions risk: section 1(b) of Executive Order 13224, as amended by Executive Order 13886; Organization Established Date 03 May 2016; Organization Type: Tour operator activities; alt. Organization Type: Restaurants and mobile food service activities; R.F.C. FAU160503BVA (Mexico); Folio Mercantil No. 16958 (Mexico) [SDGT] [ILLICIT-DRUGS-EO14059] (Linked To: IBARRA DIAZ JR., Michael).

Designated pursuant to section 1(b)(iii) of E.O. 14059 for being owned, controlled, or directed by, or having acted or purported to act for or on behalf of, directly or indirectly, Michael Ibarra Diaz Jr., a person sanctioned pursuant to E.O. 14059.

Designated pursuant to section 1(a)(iii)(A) of E.O. 13224, as amended, for being owned, controlled, or directed by, or having acted or purported to act for or on behalf of, directly or indirectly, Michael Ibarra Diaz Jr., a person sanctioned pursuant to E.O. 13224, as amended.

7. INMOBILIARIA INTEGRAL DEL PUERTO, S.A. DE C.V., Puerto Vallarta, Jalisco, Mexico; Secondary sanctions risk: section 1(b) of Executive Order 13224, as amended by Executive Order 13886; Organization Established Date 26 Jan 2007; Organization Type: Real estate activities on a fee or contract basis; Folio Mercantil No. 13988 (Mexico) [SDGT] [ILLICIT-DRUGS-EO14059] (Linked To: IBARRA DIAZ JR., Michael).

Designated pursuant to section 1(b)(iii) of E.O. 14059 for being owned, controlled, or directed by, or having acted or purported to act for or on behalf of, directly or indirectly, Michael Ibarra Diaz Jr., a person sanctioned pursuant to E.O. 14059.

Designated pursuant to section 1(a)(iii)(A) of E.O. 13224, as amended, for being owned, controlled, or directed by, or having acted or purported to act for or on behalf of, directly or indirectly, Michael Ibarra Diaz Jr., a person sanctioned pursuant to E.O. 13224, as amended.

8. KVY BUCERIAS, S.A. DE C.V. (a.k.a. KKVY BUCERIAS, S.A. DE C.V.), Guadalajara, Jalisco, Mexico; Secondary sanctions risk: section 1(b) of Executive Order 13224, as amended by Executive Order 13886; Organization Established Date 08 Sep 2022; Organization Type: Real estate activities on a fee or contract basis; Folio Mercantil No. N-2022067653 (Mexico) [SDGT] [ILLICIT-DRUGS-EO14059] (Linked To: IBARRA DIAZ JR., Michael).

Designated pursuant to section 1(b)(iii) of E.O. 14059 for being owned, controlled, or directed by, or having acted or purported to act for or on behalf of, directly or indirectly, Michael Ibarra Diaz Jr., a person sanctioned pursuant to E.O. 14059.

Designated pursuant to section 1(a)(iii)(A) of E.O. 13224, as amended, for being owned, controlled, or directed by, or having acted or purported to act for or on behalf of, directly or indirectly, Michael Ibarra Diaz Jr., a person sanctioned pursuant to E.O. 13224, as amended.

9. LAMINADO PROFESIONAL AUTOMOTRIZ ELTE, S.A. DE C.V. (a.k.a. “CENTRO DE REPARACION ELITE”), Puerto Vallarta, Jalisco, Mexico; Secondary sanctions risk: section 1(b) of Executive Order 13224, as amended by Executive Order 13886; Organization Established Date 18 Mar 2015; Organization Type: Sale of motor vehicle parts and accessories; Folio Mercantil No. 16717 (Mexico) [SDGT] [ILLICIT-DRUGS-EO14059] (Linked To: IBARRA DIAZ JR., Michael).

Designated pursuant to section 1(b)(iii) of E.O. 14059 for being owned, controlled, or directed by, or having acted or purported to act for or on behalf of, directly or indirectly, Michael Ibarra Diaz Jr., a person sanctioned pursuant to E.O. 14059.

Designated pursuant to section 1(a)(iii)(A) of E.O. 13224, as amended, for being owned, controlled, or directed by, or having acted or purported to act for or on behalf of, directly or indirectly, Michael Ibarra Diaz Jr., a person sanctioned pursuant to E.O. 13224, as amended.

10. SANTAMARIA CRUISE, S. DE R.L. DE C.V., Puerto Vallarta, Jalisco, Mexico; Secondary sanctions risk: section 1(b) of Executive Order 13224, as amended by Executive Order 13886; Organization Established Date 16 Oct 2019; Organization Type: Tour operator activities; Folio Mercantil No. N-2019090135 (Mexico) [SDGT] [ILLICIT-DRUGS-EO14059] (Linked To: IBARRA DIAZ JR., Michael).

Designated pursuant to section 1(b)(iii) of E.O. 14059 for being owned, controlled, or directed by, or having acted or purported to act for or on behalf of, directly or indirectly, Michael Ibarra Diaz Jr., a person sanctioned pursuant to E.O. 14059.

Designated pursuant to section 1(a)(iii)(A) of E.O. 13224, as amended, for being owned, controlled, or directed by, or having acted or purported to act for or on behalf of, directly or indirectly, Michael Ibarra Diaz Jr., a person sanctioned pursuant to E.O. 13224, as amended.

11. SERVICIOS INMOBILIARIOS IBADI, S.A. DE C.V., Puerto Vallarta, Jalisco, Mexico; Secondary sanctions risk: section 1(b) of Executive Order 13224, as amended by Executive Order 13886; Organization Established Date 24 Mar 2010; Organization Type: Real estate activities on a fee or contract basis; Folio Mercantil No. 15474 (Mexico) [SDGT] [ILLICIT-DRUGS-EO14059] (Linked To: IBARRA DIAZ JR., Michael).

Designated pursuant to section 1(b)(iii) of E.O. 14059 for being owned, controlled, or directed by, or having acted or purported to act for or on behalf of, directly or indirectly, Michael Ibarra Diaz Jr., a person sanctioned pursuant to E.O. 14059.

Designated pursuant to section 1(a)(iii)(A) of E.O. 13224, as amended, for being owned, controlled, or directed by, or having acted or purported to act for or on behalf of, directly or indirectly, Michael Ibarra Diaz Jr., a person sanctioned pursuant to E.O. 13224, as amended.

12. SUNMEX TRAVEL, S. DE R.L. DE C.V., Puerto Vallarta, Jalisco, Mexico; Secondary sanctions risk: section 1(b) of Executive Order 13224, as amended by Executive Order 13886; Organization Established Date 20 Sep 2010; Organization Type: Real estate activities on a fee or contract basis; Folio Mercantil No. 15661 (Mexico) [SDGT] [ILLICIT-DRUGS-EO14059] (Linked To: IBARRA DIAZ JR., Michael).

Designated pursuant to section 1(b)(iii) of E.O. 14059 for being owned, controlled, or directed by, or having acted or purported to act for or on behalf of, directly or indirectly, Michael Ibarra Diaz Jr., a person sanctioned pursuant to E.O. 14059.

Designated pursuant to section 1(a)(iii)(A) of E.O. 13224, as amended, for being owned, controlled, or directed by, or having acted or purported to act for or on behalf of, directly or indirectly, Michael Ibarra Diaz Jr., a person sanctioned pursuant to E.O. 13224, as amended.

13. TTR GO, S.A. DE C.V., Puerto Vallarta, Jalisco, Mexico; Secondary sanctions risk: section 1(b) of Executive Order 13224, as amended by Executive Order 13886; Organization Established Date 29 Feb 2016; Organization Type: Travel agency activities; R.F.C. TGO1602292I6 (Mexico) [SDGT] [ILLICIT-DRUGS-EO14059] (Linked To: IBARRA DIAZ JR., Michael).

Designated pursuant to section 1(b)(iii) of E.O. 14059 for being owned, controlled, or directed by, or having acted or purported to act for or on behalf of, directly or indirectly, Michael Ibarra Diaz Jr., a person sanctioned pursuant to E.O. 14059.

Designated pursuant to section 1(a)(iii)(A) of E.O. 13224, as amended, for being owned, controlled, or directed by, or having acted or purported to act for or on behalf of, directly or indirectly, Michael Ibarra Diaz Jr., a person sanctioned pursuant to E.O. 13224, as amended.

Bradley T. Smith,
Director, Office of Foreign Assets Control.

[FR Doc. 2025-15559 Filed 8-14-25; 8:45 am]

BILLING CODE 4810-AL-P